NUCLEAR REGULATORY COMMISSION

Sunshine Act Meeting

AGENCY: Nuclear Regulatory Commission.

DATES: Weeks of December 9, 16, 23, 30, 2002, January 6, 13, 2003.

PLACE: Commissioners' Conference Room, 11555 Rockville Pike, Rockville, Maryland.

STATUS: Public and Closed.

MATTERS TO BE CONSIDERED:

Week of December 9, 2002

There are no meetings scheduled for the Week of December 9, 2002.

Week of December 16, 2002—Tentative

Tuesday, December 17, 2002

9:30 a.m.—Briefing on Policy Options and Recommendations for Revising the NRC's Process for Handling Discrimination Issues (Public Meeting) (Contact: Ho Nieh, 301-415-1721). This meeting will be webcast live at the Web address http://www.nrc.gov.

Wednesday, December 18, 2002

9:30 a.m.—Meeting with Advisory Committee on Nuclear Waste (ACNW) (Public Meeting) (Contact: John Larkins, 301-415-7360). This meeting will be webcast live at the Web address http://www.nrc.gov.

3 p.m.—Discussion of Security Issues (Closed-Ex. 1).

Week of December 23, 2002—Tentative

There are no meetings scheduled for the Week of December 23, 2002.

Week of December 30, 2002—Tentative

There are no meetings scheduled for the Week of December 30, 2002.

Week of January 6, 2003—Tentative

There are no meetings scheduled for the Week of January 6, 2003.

Week of January 13, 2003—Tentative

Tuesday, January 14, 2002

10 a.m.—Briefing on Status of NRR Programs, Performance, and Plans (Public Meeting).

*The schedule for Commission meetings is subject to change on short notice. To verify the status of meetings call (recording)—(301) 415-1292. Contact person for more information: R. Michelle Schroll (301) 415-1662.

* * * * *

SUPPLEMENTARY INFORMATION: By a vote of 5-0 on November 27 and December 2, the Commission determined pursuant to U.S.C. 552b(e) and § 9.107(a) of the Commission's rules that “Discussion of Security Issues (Closed—Ex. 1)” be held on December 4, and on less than one week's notice to the public.

* * * * *

The NRC Commission Meeting Schedule can be found on the Internet at: www.nrc.gov/what-we-do/policy-making/schedule.html.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: December 5, 2002.
R. Michelle Schroll,
Acting Technical Coordinator, Office of the Secretary.

[FR Doc. 02-31214 Filed 12-6-02; 1:35 pm]

BILLING CODE 7990-01-M